DEPARTMENT OF THE INTERIOR

National Park Service

Notice of Intent to Repatriate a Cultural Item: Illinois State Museum, Springfield, IL

AGENCY: National Park Service, Interior.

ACTION: Notice.

Notice is here given in accordance with the Native American Graves Protection and Repatriation Act (NAGPRA), 25 U.S.C. 3005, of the intent to repatriate a cultural item in the possession of the Illinois State Museum, Springfield, IL, that meets the definition of a “sacred object” under 25 U.S.C. 3001.

This notice is published as part of the National Park Service's administrative responsibilities under NAGPRA, 25 U.S.C. 3003 (d)(3). The determination in this notice is the sole responsibility of the museum, institution, or Federal agency that has control of the cultural item. The National Park Service is not responsible for the determination in this notice.

In 1955, the Logan Museum of Anthropology, Beloit College, Beloit, WI, acquired a large collection of objects from the estate of Albert Green Heath (1888-1953). In 1956, the Illinois State Museum purchased some cultural objects, including a wooden bowl, from the Heath Collection at the Logan Museum. Heath had lived in Chicago, but also had a second home in Harbor Springs, Emmett County, MI, near the Odawa community of Cross Village. Heath was well-known to members of the Odawa community, and he purchased a number of objects from various members of the Odawa community in the early 20th century.

The wooden bowl (ISM catalog number 1956-0001-804982) is round and relatively shallow, with a flattened base, rounded sides, and a flat rim or lip. It measures 20.2 cm in diameter, 5.5 cm high, and its rim is 8 mm thick. The base, rim, and inner walls are smooth, but the outer walls are marked with numerous vertical grooved lines that extend from the rim to the base. These lines appear to be either decorations or residual tool marks from shaping the outer surface of the bowl. A series of shallow, parallel grooves evident on the bowl's base and inner walls may represent lathe marks, but this has not been confirmed. Use-wear on the inner floor of the bowl consists of numerous randomly oriented incised grooves formed by metal knives. Presumably these markings were incidental to cutting food or other soft material. The natural grain of the wood is somewhat obscured by age discoloration, but experienced woodworkers have concluded that it was made from a maple burl.

Heath's collection records state that the wooden bowl is Ottawa (Odawa) and was assigned a catalog number (No. 785). According to Heath, the bowl was purchased from Amos Assineway in Emmet County, MI, in 1915. Heath described the bowl as being “rare,” “very old,” and “in fine condition.” Amos Assineway's name has not been found in early 20th century census records for Emmet County, but the Assineway or Assinaway family name is well-represented in the Odawa community.

Historic and geographic evidence indicates that the Odawa Indians have occupied the area of Emmet County, MI, since the 18th century. The Little Traverse Bay Bands of Odawa Indians, Michigan still reside in the area today. The Odawa traditionally had three types of wooden bowls: personal bowls, community bowls, and ceremonial bowls. Ceremonial/sacred bowls were used for special ceremonies (e.g., Feast for the Dead) and are believed by the Odawa to contain manidok (spirits) that are members of the community and help the Odawa maintain their cultural beliefs and traditions. Consultation with tribal representatives led to the Odawa identification of the bowl as a sacred object that is needed by traditional religious leaders for ongoing ceremonies.

Officials of the Illinois State Museum reasonably believe that, pursuant to 25 U.S.C. 3001 (3)(B), the cultural item described above is needed by traditional Native American religious leaders for the practice of traditional Native American religions by their present-day adherents. Officials of the Illinois State Museum also have determined that, pursuant to 25 U.S.C. 3001 (2), there is a relationship of shared group identity that can be reasonably traced between the sacred object and the Little Traverse Bay Bands of Odawa Indians, Michigan.

Representatives of any other Indian tribe that believe their tribe is culturally affiliated with the sacred object should contact Robert Warren, NAGPRA Coordinator, Illinois State Museum, 1011 East Ash St., Springfield, IL 62703-3500, telephone (217) 524-7903, before October 22, 2009. Repatriation of the sacred object to the Little Traverse Bay Bands of Odawa Indians, Michigan may proceed after that date if no additional claimants come forward.

The Illinois State Museum is responsible for notifying the Grand Traverse Band of Ottawa and Chippewa Indians, Michigan; Little River Band of Ottawa Indians, Michigan; Little Traverse Bay Bands of Odawa Indians, Michigan; and Ottawa Tribe of Oklahoma, that this notice has been published.

Dated: September 1, 2009
Sherry Hutt,
Manager, National NAGPRA Program.

[FR Doc. E9-22781 Filed 9-21-09; 8:45 am]

BILLING CODE 4312-50-S